Memorandum of April 30, 2019

Delegation of Authority Under Section 5 of the United States-Caribbean Strategic Engagement Act of 2016

Memorandum for the Secretary of State

By the authority vested in me as President by the Constitution and the laws of the United States of America, including section 301 of title 3, United States Code, I hereby delegate to the Secretary of State the authority to submit the report required under section 5 of the United States-Caribbean Strategic Engagement Act of 2016 (Public Law 114-291).

The delegation in this memorandum shall apply to any provisions of any future public law that are the same or substantially the same as the provision referenced in this memorandum.The Secretary of State may redelegate within the Department of State the authority delegated by this memorandum to the extent authorized by law.

The Secretary of State is authorized and directed to publish this memorandum in the Federal Register.

THE WHITE HOUSE,

Washington, April 30, 2019

[FR Doc. 2019-10480

Filed 5-16-19; 8:45 am]

BILLING CODE 4710-10-P